DEPARTMENT OF HEALTH AND HUMAN SERVICES

National Institutes of Health

National Cancer Institute; Amended Notice of Meeting

Notice is hereby given of a change in the meeting of the National Cancer Institute Special Emphasis Panel, March 7, 2013, 12:00 p.m. to March 7, 2013, 4:00 p.m., National Institutes of Health, 6116 Executive Boulevard, Rockville, MD, 20852 which was published in the Federal Register on December 7, 2012, 77 FR 73036.

This notice is being amended to change the location, date and time to Hilton Washington DC North, 620 Perry Parkway, Gaithersburg, MD 20877, March 25, 2013, 8:00 a.m.-5:00 p.m. Additionally, the meeting is being held as a face-to-face meeting. The meeting is closed to the public.

Dated: January 17, 2013.
Melanie J. Gray,
Program Analyst, Office of Federal Advisory Committee Policy.

[FR Doc. 2013-01331 Filed 1-23-13; 8:45 am]

BILLING CODE 4140-01-P